DEPARTMENT OF TRANSPORTATION

Federal Aviation Administration

Third Meeting, RTCA Special Committee 216: Aeronautical System Security

AGENCY: Federal Aviation Administration (FAA), DOT.

ACTION: Notice of RTCA Special Committee 216 meeting Aeronautical Systems Security.

SUMMARY: The FAA is issuing this notice to advise the public of a meeting of RTCA Special Committee 216: Aeronautical Systems Security.

DATES: The meeting will be held on March 11-13, 2008, from 9 a.m. to 5 p.m.

ADDRESSES: The meeting will be held at EG&G, 300 M Street, Suite 400, Washington, DC.

FOR FURTHER INFORMATION CONTACT: RTCA Secretariat, 1828 L Street, NW., Suite 805, Washington, DC 20036-5133; telephone (202) 833-9339; fax (202) 833-9434; Web site http://www.rtca.org. EG&G Contact: Dale Immel, telephone (202) 264-7847 e-mail dimmel@egginc.com.

SUPPLEMENTARY INFORMATION: Pursuant to section 10(a)(2) of the Federal Advisory Committee Act (Pub. L. 92-463, 5 U.S.C., Appendix 2), notice is hereby given for a Special Committee 216 meeting. The agenda will include:

• March 11-13:

• Opening Session (Welcome, Introductory and Administrative Remarks, Agenda Overview Minutes Review/Approve Second Meeting Summary (RTCA Paper No. 010-08/SC216-005 and Action Items).

• Status of the Task Force.

• Status of the Working Groups, SG2 and SG3.

• Status of WG72.

• Status of Liaison Activities.

• Breakout into Working Groups.

• Organization of Plan Forward, Assign Actions.

• Closing Session (Other Business, Assignment/Review of Future Work, Establish Agenda, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 8, 2008.
Robert L. Bostiga,
RTCA Advisory Committee (Acting).

[FR Doc. 08-700 Filed 2-14-08; 8:45 am]

BILLING CODE 4910-13-M